DEPARTMENT OF LABOR

Employment and Training Administration

[T-W-37,387]

Timbergon, Redmond, Oregon; Notice of Termination of Investigation

Pursuant to Section 221 of the Trade Act of 1974, an investigation was initiated on February 28, 2000 in response to a worker petition which was filed on behalf of workers at Timbergon, Redmond, Oregon.

The petitioner has requested that the petition be withdrawn. Consequently, further investigation in this case would serve no purpose, and the investigation has been terminated.

Signed in Washington, DC, this 6th day of April, 2000.
Grant D. Beale,
Program Manager, Division of Trade Adjustment Assistance.

[FR Doc. 00-9975 Filed 4-20-00; 8:45 am]

BILLING CODE 4510-30-M